FEDERAL COMMUNICATIONS COMMISSION

47 CFR Part 64

[WC Docket Nos. 12-375, 23-62; DA 24-918; FR ID 246456]

Incarcerated People's Communication Services; Implementation of the Martha Wright-Reed Act; Rates for Interstate Inmate Calling Services

AGENCY: Federal Communications Commission.

ACTION: Proposed rule; solicitation of comments.

SUMMARY: In this document, the Wireline Competition Bureau (WCB) and the Consumer and Governmental Affairs Bureau (CGB) (collectively, the Bureaus) of the Federal Communications Commission seek to refresh the record on proposed revisions to the instructions and templates for the Annual Reports and Annual Certifications submitted by providers of incarcerated people's communications services (IPCS).

DATES: Comments are due November 4, 2024. Reply Comments are due November 18, 2024.

ADDRESSES: Federal Communications Commission, 45 L Street NE, Washington, DC 20554.

You may submit comments, identified by WC Docket Nos. 23-62, 12-375, by any of the following methods:

• Electronic Filers: Comments may be filed electronically using the internet by accessing the Electronic Comment Filing System (ECFS): https://www.fcc.gov/ecfs/.

• Paper Filers: Parties who choose to file by paper must file an original and one copy of each filing. Filings can be sent by commercial overnight courier, or by first-class or overnight U.S. Postal Service mail.

The Commission adopted a Protective Order in this proceeding which incorporates all materials previously designated by the parties as confidential. Filings that contain confidential information should be appropriately redacted and filed pursuant to the procedure described in that Order.

People with Disabilities: To request materials in accessible formats for people with disabilities (Braille, large print, electronic files, audio format), send an email to fcc504@fcc.gov, or call the Consumer and Governmental Affairs Bureau at (202) 418-0530 (voice) or (202) 418-0432 (TTY).

FOR FURTHER INFORMATION CONTACT: Michael Scott, Disability Rights Office of the Consumer and Governmental Affairs Bureau, at (202) 418-1264 or via email at michael.scott@fcc.gov, regarding portions of this document relating to communications services for incarcerated people with disabilities, and Stephen Meil, Pricing Policy Division of the Wireline Competition Bureau, at (202) 418-7233 or via email at stephen.meil@fcc.gov, regarding other matters.

SUPPLEMENTARY INFORMATION: This is a summary of the Commission's document seeking to refresh the record on incarcerated people's communications services annual reporting obligations, document DA 24-918, released on September 11, 2024, in WC Docket Nos. 12-375 and 23-62. The full text of document DA 24-918 can be accessed electronically via the FCC's Electronic Document Management System (EDOCS) website at www.fcc.gov/edocs or via the FCC's Electronic Comment Filing System (ECFS) website at www.fcc.gov/ecfs, or is available at the following internet address: https://www.fcc.gov/document/2024-incarcerated-peoples-communications-services-annual-reports-pn.

Synopsis: By document DA 24-918, the Wireline Competition Bureau (WCB) and the Consumer and Governmental Affairs Bureau (CGB) (collectively, the Bureaus) invite supplemental comment to refresh and expand upon the record regarding the annual reporting and certification requirements for providers of incarcerated people's communications services (IPCS). The Commission requires IPCS providers to make annual filings “to enable the Commission to monitor and track trends in the IPCS marketplace, increase provider transparency, and ensure compliance with the Commission's rules.”

In an August 3, 2023 document, DA 23-656 (88 FR 53850, August 9, 2023), the Bureaus sought comment on proposed revisions to the instructions and templates for the annual reports and annual certifications that the Commission requires IPCS providers to submit. At the time document DA 23-656 was published, only “IPCS providers that [were] classified as inmate calling services (ICS) providers under the Commission's rules [were] required to make these filings.” However, pursuant to the reforms adopted in the 2024 IPCS Order, all IPCS providers are now required to make these filings. Subsequently, in the 2024 IPCS Order, the Commission modified “the scope and content of [its] annual reports to reflect the . . . expansion of Commission jurisdiction over other communications services in carceral facilities, including video IPCS and other advanced communications services, as well as intrastate IPCS, and the providers that offer these services” under the Martha Wright-Reed Just and Reasonable Communications Act of 2022 (Martha Wright-Reed Act). In issuing this document, the Bureaus seek to build on the record developed in response to document DA 23-656 so it better reflects the Commission's expanded jurisdiction and the reforms adopted in the 2024 IPCS Order.

In the 2024 IPCS Order, the Commission revised its rules by, inter alia:

• adopting permanent rate caps for audio IPCS and interim rate caps for video IPCS;

• adopting new facility tiers for both audio and video IPCS;

• prohibiting providers from imposing any ancillary service charges on IPCS consumers;

• prohibiting providers from making site commission payments for IPCS;

• allowing providers to offer alternate pricing plans for IPCS subject to certain conditions; and

• revising and strengthening IPCS accessibility requirements for incarcerated people with disabilities.

The 2024 IPCS Order also modified the scope and content of the annual reports to reflect the reforms adopted under the Martha Wright-Reed Act. The Commission expanded its annual reporting and certification requirements to include the full scope of services and providers now subject to the IPCS rules. The Commission also eliminated the sections of the annual reporting rules mandating the reporting of information on ancillary service charges and site commissions, to reflect the prohibition of those items adopted in the 2024 IPCS Order. The Commission also retained the rules describing the reporting requirements concerning TRS and related communications services, but renumbered them. Finally, the Commission reaffirmed and updated its prior delegation of authority to the Bureaus to revise the annual reports, to reflect the Commission's expanded authority under the Martha Wright-Reed Act and the other actions taken in the 2024 IPCS Order, and directed that the Bureaus pay particular attention to the video IPCS marketplace and the availability and usage of Telecommunications Relay Services (TRS) in exercising this delegated authority.

Pursuant to this delegated authority, the Bureaus seek to expand and refresh the record on revisions to the Annual Report instructions, templates, and certification form, in addition to those proposed in document 23-656, and to implement the modifications to the annual reporting and certification requirements adopted by the Commission in the 2024 IPCS Order. The Bureaus also seek comment on any additional modifications the Bureaus should consider to make to these forms consistent with the new rules, including the varied compliance dates adopted in the 2024 IPCS Order. Although the Bureaus seek comment below on specific changes to the annual reporting and certification requirements, the Bureaus also seek comment, generally, on any further modifications necessary to reflect the comprehensive reforms contained in the 2024 IPCS Order.

In particular, the Bureaus invite comment on ways to: ensure consistency between the new IPCS rules and annual reporting and certification requirements; streamline the existing requirements consistent with the new rules; and make the reports more clear and/or accurate. For example, the Bureaus seek comment on revisions to the General Instructions and Definitions to clarify that the annual reporting requirement now applies to all IPCS providers and IPCS communication services, and to conform the definitions to those adopted in the 2024 IPCS Order. The Bureaus also invite comment on any necessary additions to the reporting requirements. In the 2024 IPCS Order, the Commission directed that the Bureaus “pay particular attention to how best to capture developments in the rapidly changing, but nascent video IPCS marketplace in updating the requirements for the annual reports.” The Bureaus seek comment on how they might best implement this Commission directive. The Bureaus also seek comment on how to collect information concerning alternate pricing plans, and on the appropriate level of granularity for such data. In addition, the Bureaus seek comment on collecting information concerning facilities' IPCS costs, such as requiring providers to report information on any reimbursements they provide to facilities.

The Bureaus invite comment on whether there is additional information they should seek relating to the use of TRS in carceral facilities, beyond what was proposed in document 23-656. In the 2024 IPCS Order, the Commission directed that the Bureaus consider “not only the availability of TRS, but growth of both the user base and the use of TRS, capturing data on the number of individuals with disabilities who are requesting access to the additional forms of TRS in carceral facilities, changes in the monthly minutes of use for each type of TRS, and other useful metrics” in revising the requirements for the Annual Reports. The Bureaus invite comment on how they might best implement this Commission directive.

Are there other changes the Bureaus should make to streamline the reporting requirements? Should the Bureaus consider combining the separate questions on intrastate and interstate rates into a single set of questions to reduce burdens on respondents? What about the idea of removing references to the provider-related and facility-related rate components? Would that change condense the annual reports submitted? Similarly, to what extent should the Bureaus align the reporting approach for video IPCS with that for audio IPCS?

Finally, are there other changes or additions the Bureaus should make to gather better or more accurate data or to make the instructions more precise? For example, what information or data should the Bureaus require to enable the Commission to better monitor compliance and industry trends, or increase transparency to the public? Should the Bureaus require providers to submit audited financial statements or similar documentation as part of their annual report filings, as the Commission required for the 2023 Mandatory Data Collection? Conversely, are there any proposed instructions, inquiries, or data fields that should be removed because they are unnecessary to ensure that providers report uniform and accurate data and other information, or because they are inconsistent with the 2024 IPCS Order? Finally, the Bureaus seek comment on the relative benefits and burdens of any proposed modifications to the reporting and certification requirements.

Procedural Matters

Providing Accountability Through Transparency Act. Consistent with the Providing Accountability Through Transparency Act, Public Law 118-9, a summary of this document will be available on https://www.fcc.gov/proposed-rulemakings.

Ex Parte Presentations. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in the prior comments, memoranda, or other filings (specifying the relevant page and/or paragraph numbers where such data or arguments can be found) in lieu of summarizing them in the memorandum. Documents shown or given to Commission staff during ex parte meetings are deemed to be written ex parte presentations and must be filed consistent with section 1.1206(b) of the Commission's rules. Participants in this proceeding should familiarize themselves with the Commission's ex parte rules.

Federal Communications Commission.
Lynne Engledow,
Deputy Chief, Pricing Policy Division, Wireline Competition Bureau.

[FR Doc. 2024-22819 Filed 10-2-24; 8:45 am]

BILLING CODE 6712-01-P